ADVISORY COUNCIL ON HISTORIC PRESERVATION

Notice of Advisory Council on Historic Preservation Quarterly Business Meeting

AGENCY: Advisory Council on Historic Preservation.

ACTION: Notice of Advisory Council on Historic Preservation quarterly business meeting.

SUMMARY: Notice is hereby given that the Advisory Council on Historic Preservation (ACHP) will have its next quarterly meeting on Wednesday, July 10, 2019. The meeting will take place at the Smithsonian Castle, Visitor Center in the Great Hall, 1000 Jefferson Avenue NW, Washington, DC, starting at 8:30 a.m.

DATES: The quarterly meeting will take place on Wednesday, July 10, 2019 starting at 8:30 a.m.

ADDRESSES: The meeting will take place in the Great Hall at the Smithsonian Castle, 1000 Jefferson Avenue NW, Washington, DC.

FOR FURTHER INFORMATION CONTACT: Tanya DeVonish, 202-517-0205, tdevonish@achp.gov.

SUPPLEMENTARY INFORMATION: The Advisory Council on Historic Preservation (ACHP) is an independent federal agency that promotes the preservation, enhancement, and sustainable use of our nation's diverse historic resources, and advises the President and the Congress on national historic preservation policy. The goal of the National Historic Preservation Act (NHPA), which established the ACHP in 1966, is to have federal agencies act as responsible stewards of our nation's resources when their actions affect historic properties. The ACHP is the only entity with the legal responsibility to encourage federal agencies to factor historic preservation into their decision making. For more information on the ACHP, please visit our website at www.achp.gov.

The agenda for the upcoming quarterly meeting of the ACHP is the following:

I. Chairman's Welcome

II. Chairman's Award for Federal Historic Preservation Achievement.

III. Transition to Full-Time ACHP Chairman.

A. Transition Process

B. ACHP Executive Committee

IV. Section 106 Issues

A. Digital Information Task Force Proceedings.

B. National Park Service Proposed Rule on National Register Nominations

C. Federal Communications Commission Program Comment for “Twilight Towers”

D. Government Accountability Office Report

E. Update on Prior Section 106 Issues

V. Historic Preservation Policy and Programs

A. White House Opportunity and Revitalization Council and the ACHP

B. Traditional Knowledge and the National Historic Preservation Program

C. Legislation

D. Planning for the U.S. Semiquincentennial

VI. Committee Reports

VII. New Business

VIII. Adjourn

The meetings of the ACHP are open to the public. If you need special accommodations due to a disability, please contact Tanya DeVonish, 202-517-0205 or tdevonish@achp.gov, at least seven (7) days prior to the meeting.

Authority: 54 U.S.C. 304102.

Dated: June 20, 2019.
Javier E. Marques,
General Counsel.

[FR Doc. 2019-13654 Filed 6-26-19; 8:45 am]

BILLING CODE 4310-K6-P